DEPARTMENT OF THE INTERIOR

National Park Service

[NPS-WASO-NAGPRA-18272; PPWOCRADN0-PCU00RP15.R50000]

Notice of Inventory Completion: U.S. Department of the Interior, National Park Service, Everglades National Park, Homestead, FL

AGENCY: National Park Service, Interior.

ACTION: Notice.

SUMMARY: The U.S. Department of the Interior, National Park Service, Everglades National Park has completed an inventory of human remains and associated funerary objects, in consultation with the appropriate Indian tribes or Native Hawaiian organizations, and has determined that there is no cultural affiliation between the human remains and associated funerary objects and any present-day Indian tribes or Native Hawaiian organizations. Representatives of any Indian tribe or Native Hawaiian organization not identified in this notice that wish to request transfer of control of these human remains and associated funerary objects should submit a written request to Everglades National Park. If no additional requestors come forward, transfer of control of the human remains and associated funerary objects to the Indian tribes or Native Hawaiian organizations stated in this notice may proceed.

DATES: Representatives of any Indian tribe or Native Hawaiian organization not identified in this notice that wish to request transfer of control of these human remains and associated funerary objects should submit a written request with information in support of the request to the Everglades National Park at the address in this notice by July 9, 2015.

ADDRESSES: Pedro Ramos, Superintendent, Everglades National Park, 40001 State Road 9336, Homestead, FL 33034, telephone (305) 242-7713, email pedro_ramos@nps.gov.

SUPPLEMENTARY INFORMATION: Notice is here given in accordance with the Native American Graves Protection and Repatriation Act (NAGPRA), 25 U.S.C. 3003, of the completion of an inventory of human remains and associated funerary objects under the control of the U.S. Department of the Interior, National Park Service, Everglades National Park, Homestead, FL. The human remains and associated funerary objects were removed from Everglades National Park in Monroe, Collier, and Dade Counties, FL.

This notice is published as part of the National Park Service's administrative responsibilities under NAGPRA, 25 U.S.C. 3003(d)(3) and 43 CFR 10.11(d). The determinations in this notice are the sole responsibility of the Superintendent, Everglades National Park.

Consultation

A detailed assessment of the human remains was made by Everglades National Park professional staff in consultation with representatives of the Miccosukee Tribe of Indians and the Seminole Tribe of Florida (previously listed as the Seminole Tribe of Florida (Dania, Big Cypress, Brighton, Hollywood & Tampa Reservations)).

History and Description of the Human Remains

In 1956, human remains representing, at minimum, 17 individuals were removed from a small key island in Monroe County, FL. The human remains were removed from the site by collectors and donated to the Miami Science Museum in the 1960s. In 2004, the Miami Science Museum donated the human remains to Everglades National Park. No known individuals were identified. No associated funerary objects are present.

In 1960, human remains representing, at minimum, one individual were removed from a key island in Monroe County, FL. The human remains were collected by park staff from a shell midden after hurricane damage. No known individuals were identified. No associated funerary objects are present.

In the 1960s, human remains representing, at minimum, one individual, were removed from a key island in Monroe County, FL. The human remains were collected during a general surface survey along the southwest and eastern side of the key conducted by park staff. No known individuals were identified. No associated funerary objects are present.

In the 1960s, human remains representing, at minimum, one individual, were removed from a key island in Monroe County, FL. The human remains were removed during a park-sponsored survey on the key's western end. No known individuals were identified. No associated funerary objects are present.

In the 1960s, human remains representing, at minimum, one individual, were removed from a small key island in Collier County, FL. The human remains were removed from an unknown provenience during a park-sponsored survey. No known individuals were identified. No associated funerary objects are present.

In 1964, human remains representing, at minimum, one individual were removed from a large key island in Monroe County, FL. The human remains were collected from an unknown provenience by park staff. No known individuals were identified. No associated funerary objects are present.

In 1964, human remains representing, at minimum, one individual, were removed from a small key island in Monroe County, FL. The human remains were removed during a park-sponsored site survey from a mangrove marsh on the east side of the island. No known individuals were identified. No associated funerary objects are present.

In 1964, human remains representing, at minimum, one individual, were removed from a large key island in Collier County, FL. The human remains were removed by park staff from a small burial mound at the site. No known individuals were identified. No associated funerary objects are present.

In 1964, human remains representing, at minimum, two individuals, were removed from a key island in Monroe County, FL. The human remains were removed from an unknown provenience during a survey by park staff. No known individuals were identified. No associated funerary objects are present.

In 1968, human remains representing, at minimum, one individual were removed from a mound in Monroe County, FL. The human remains were removed during a park-sponsored excavation. No known individuals were identified. The 192 associated funerary objects are 15 metal fragments, 4 metal vessel fragments, 1 indeterminate nail fragment, 1 Cane Patch Incised sherd, 112 Glades Plain sherds, 7 Glades Incised sherds, 20 Glades Red sherds, 2 Fort Drum Punctated sherds, 2 Sanibel Incised sherds, 1 Weeden Island Plain sherd, 9 St. Johns Plain sherds, 3 Goodland Plain sherds, 4 untyped ceramic sherds, 2 unfired clay fragments, 6 pieces of drilled bone, 1 worked bone, and 2 worked shells.

In 1983, human remains representing, at minimum, one individual were removed from a hammock in Dade County, FL. The human remains were removed from an excavated posthole test during an archeological site survey. No known individuals were identified. No associated funerary objects are present.

In 1983, human remains representing, at minimum, one individual were removed from a tree island in Monroe County, FL. The human remains were removed from a posthole test during an archeological site survey. No known individuals were identified. No associated funerary objects are present.

In 1984, human remains representing, at minimum, one individual, were removed from a key in Monroe County, FL. The human remains were collected from a southwest beach on the key and sent to the Federal Bureau of Investigation (FBI) for assessment. The human remains were then transferred to the Smithsonian Institution where they were assessed and determined to be non-historic. In 1985, the human remains were returned to Everglades National Park. Professional staff at Everglades National Park has determined that the human remains are Native American. No known individuals were identified. No associated funerary objects are present.

Cultural affiliation of the human remains described above could not be determined due to uncertain provenience, lack of culturally affiliated historic artifacts, and/or the antiquity of the human remains.

Determinations Made by Everglades National Park

Officials of Everglades National Park have determined that:

• Pursuant to 25 U.S.C. 3001(9), the human remains described in this notice are Native American based on archeological provenience with Native American sites and the antiquity of the human remains.

• Pursuant to 25 U.S.C. 3001(9), the human remains described in this notice represent the physical remains of 30 individuals of Native American ancestry.

• Pursuant to 25 U.S.C. 3001(3)(A), the 192 objects described in this notice are reasonably believed to have been placed with or near individual human remains at the time of death or later as part of the death rite or ceremony. The National Park Service intends to convey the associated funerary objects to the tribes pursuant to 16 U.S.C. 18f-2.

• Pursuant to 25 U.S.C. 3001(2), a relationship of shared group identity cannot be reasonably traced between the Native American human remains and associated funerary objects and any present-day Indian tribe.

• According to final judgments of the Indian Claims Commission or the Court of Federal Claims, the land from which the Native American human remains and associated funerary objects were removed is the aboriginal land of the Miccosukee Tribe of Indians and the Seminole Tribe of Florida (previously listed as the Seminole Tribe of Florida (Dania, Big Cypress, Brighton, Hollywood & Tampa Reservations)).

• Treaties, Acts of Congress, or Executive Orders, indicate that the land from which the Native American human remains and associated funerary objects were removed is the aboriginal land of the Miccosukee Tribe of Indians and the Seminole Tribe of Florida (previously listed as the Seminole Tribe of Florida (Dania, Big Cypress, Brighton, Hollywood & Tampa Reservations)).

• Pursuant to 43 CFR 10.11(c)(1), the disposition of the human remains and associated funerary objects may be to the Miccosukee Tribe of Indians and the Seminole Tribe of Florida (previously listed as the Seminole Tribe of Florida (Dania, Big Cypress, Brighton, Hollywood & Tampa Reservations)).

Additional Requestors and Disposition

Representatives of any Indian tribe or Native Hawaiian organization not identified in this notice that wish to request transfer of control of these human remains and associated funerary objects should submit a written request with information in support of the request to Pedro Ramos, Superintendent, Everglades National Park, 40001 State Road 9336, Homestead, FL 33034, telephone (305) 242-7713, email pedro_ramos@nps.gov, by July 9, 2015. After that date, if no additional requestors have come forward, transfer of control of the human remains and associated funerary objects to the Miccosukee Tribe of Indians and the Seminole Tribe of Florida (previously listed as the Seminole Tribe of Florida (Dania, Big Cypress, Brighton, Hollywood & Tampa Reservations)) may proceed.

Everglades National Park is responsible for notifying the Miccosukee Tribe of Indians and the Seminole Tribe of Florida (previously listed at the Seminole Tribe of Florida (Dania, Big Cypress, Brighton, Hollywood & Tampa Reservations)) that this notice has been published.

Dated: May 6, 2015.
Mariah Soriano,
Acting Manager, National NAGPRA Program.

[FR Doc. 2015-14099 Filed 6-8-15; 8:45 am]

BILLING CODE 4312-50-P